DEPARTMENT OF COMMERCE

Foreign-Trade Zones Board

[Docket 37-2003]

Foreign-Trade Zone 82—Mobile, AL; Request for Manufacturing Authority, Bender Shipbuilding and Repair Company (Shipbuilding)

An application has been submitted to the Foreign-Trade Zones Board (the Board) by the City of Mobile, Alabama, grantee of FTZ 82, pursuant to Section 400.28(a)(2) of the Board's regulations (15 CFR part 400), requesting authority on behalf of Bender Shipbuilding and Repair Company (Bender) to construct and repair oceangoing vessels under FTZ procedures within FTZ 82. It was formally filed on July 29, 2003.

The Bender facility is used for the construction, repair, and conversion of commercial and military vessels for domestic and international customers. Foreign components that may be used at the shipyard (up to 20% of finished vessel value) include: plastic tubes/pipes/hoses/fittings/closures/cases/bags/crates, rubber mats/gaskets/o-rings/seals/dock fenders/knobs/dampeners, knotted rope/twine, glass fibers, articles of glass, steel mill products (must be admitted under privileged foreign status (19 CFR 146.41)), steel and iron pipe/tube/profiles/casings/fittings, bridges and bridge sections, roofing, siding, flooring, cooking appliances, hangers, copper and brass bar/rods/profiles, aluminum plate/sheet/strip/bar/profiles/tube/wire, articles of aluminum (bridge sections and structures, roofing, guttering, siding, tanks, reservoirs, drums, cans, cable, frames, fasteners, hangers), metal hinges, pneumatic cylinders, door closers, pumps, air conditioners, fire extinguishers, sprinkler systems, air cleaners, de/humidifiers, trash compactors, valves, transmissions and related parts, gears, flywheels, pulleys, propellers, transformers, converters, inductors, radar apparatus, television equipment, smoke detectors, alarms, indicator panels, printed circuits, electrical switches/relays/fuses/surge suppressors/connectors/terminals, generators, lamps, wiring harnesses, fiber optic cable, navigational equipment, thermostats, monostats, regulators, controllers, lamps, and lighting fixtures (2003 duty rates: free—14.3%).

FTZ procedures would exempt Bender from Customs duty payments on the foreign components (except steel mill products) used in export activity. On its domestic sales, the company would be able to choose the duty rate that applies to finished oceangoing vessels (duty free) for the foreign-origin components noted above. Duties would be deferred or reduced on foreign production equipment admitted by Bender to the zone until which time it becomes operational. The manufacturing activity conducted under FTZ procedures would be subject to the “standard shipyard restriction” applicable to foreign-origin steel mill products (e.g., angles, pipe, plate), which requires that Customs duties be paid on such items. The application indicates that the savings from FTZ procedures would help improve the facility's international competitiveness.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW, Washington, DC 20005; or,

2. Submissions via the U.S. Postal Service: Foreign-Trade Zones Board, U.S. Department of Commerce, FCB-4100W, 1401 Constitution Ave., NW, Washington, DC 20230.

The closing period for their receipt is September 22, 2003. Rebuttal comments in response to material submitted during the foregoing period may be submitted during the subsequent 15-day period to October 6, 2003.

A copy of the application will be available for public inspection at the Office of the Foreign-Trade Zones Board's Executive Secretary at address No.1 listed above.

Dated: July 29, 2003.
Pierre V. Duy,
Acting Executive Secretary.

[FR Doc. 03-20178 Filed 8-6-03; 8:45 am]

BILLING CODE 3510-D8-P